DEPARTMENT OF JUSTICE

Parole Commission

Sunshine Act Meeting

TIME AND DATE: 10:00 a.m., Tuesday, December 10, 2013.

PLACE: U.S. Parole Commission, 90 K Street NE., 3rd Floor, Washington, DC.

STATUS: Open.

MATTERS TO BE CONSIDERED: Approval of August 8, 2013 minutes; reports from the Chairman, the Commissioners, and senior staff; Short Intervention For Success Program; Proposed Rulemaking Revising Conditions of Release update.

CONTACT PERSON FOR MORE INFORMATION: Patricia W. Moore, Staff Assistant to the Chairman, U.S. Parole Commission, 90 K Street NE., 3rd Floor, Washington, DC 20530, (202) 346-7001.

Dated: December 2, 2013.
J. Patricia W. Smoot,
Acting General Counsel, U.S. Parole Commission.

[FR Doc. 2013-29063 Filed 12-2-13; 4:15 pm]

BILLING CODE 4410-31-P